ENVIRONMENTAL PROTECTION AGENCY

40 CFR Part 52

[CA-237-0221; FRL-6570-7]

Approval and Promulgation of State Implementation Plans; California—South Coast

AGENCY: Environmental Protection Agency (EPA).

ACTION: Final rule.

SUMMARY: EPA is taking final action to approve a state implementation plan (SIP) revision submitted by the State of California to provide for attainment of the 1-hour ozone national ambient air quality standard (NAAQS) in the Los Angeles-South Coast Air Basin Area (South Coast). EPA is approving the SIP revision under provisions of the Clean Air Act (CAA) regarding EPA action on SIP submittals, SIPs for national primary and secondary ambient air quality standards, and plan requirements for nonattainment areas.

DATES: This action is effective on May 10, 2000.

ADDRESSES: The rulemaking docket for this notice is available for public inspection during normal business hours at EPA's Region IX office. A reasonable fee may be charged for copying parts of the docket.

Copies of the SIP materials are also available for inspection at the following locations:

California Air Resources Board, 2020 L Street, Sacramento, California

South Coast Air Quality Management District, 21865 E. Copley Drive, Diamond Bar, California

The SIP materials are also electronically available at: http://www.aqmd.gov/aqmp/

FOR FURTHER INFORMATION CONTACT: Dave Jesson (AIR-2), EPA Region IX, 75 Hawthorne Street, San Francisco, CA 94105-3901, (415) 744-1288, or jesson.david@epa.gov.

SUPPLEMENTARY INFORMATION:

I. Background

We are finalizing approval of the 1997 ozone plan for the South Coast, as revised by a 1999 amendment.¹ The South Coast Air Quality Management District (SCAQMD) adopted the 1997 plan on November 15, 1996, and the California Air Resources Board (CARB) submitted the plan to us on February 5, 1997. SCAQMD adopted the 1999 amendment on December 10, 1999, and CARB submitted the plan to us on February 4, 2000. EPA determined the submittal to be complete on March 15, 2000.² In this document, we refer to the 1997 plan and 1999 amendment as “the revised ozone plan,” which is intended to replace the 1994 ozone SIP except for that portion of the SIP that consists of State control measures and EPA's commitment relating to a Public Consultative Process on national mobile sources.³

¹ The nonattainment area includes all of Orange County and the more populated portions of Los Angeles, San Bernardino, and Riverside Counties.

² We adopted the completeness criteria on February 16, 1990 (55 FR 5830) and, pursuant to section 110(k)(1)(A) of the CAA, revised the criteria on August 26, 1991 (56 FR 42216). CARB requested that we “parallel process” action on the 1997 plan and 1999 amendment before SIP submittal of the 1999 amendment.

³ For information on the 1994 ozone SIP, see 62 FR 1150 (January 8, 1997). For information on the Public Consultative Process, see 64 FR 39923 (July 23, 1999).

On February 8, 2000, we proposed approval of the revised ozone plan with respect to the revised emissions inventory, the modeled attainment demonstration, control measures, commitment to achieve specified emission reductions in future years, revised rate-of-progress (ROP) plan, and emissions budget. Please see that document (65 FR 6091-6102) for further details on our proposed action, applicable CAA requirements, and additional information on the affected area.

II. Public Comments

We received 3 public comments. SCAQMD supported the proposed action, but requested a minor correction. The proposal stated that the South Coast Air Basin recorded the largest number of ozone violations in the country in 1999 based on preliminary data from EPA's Aerometric Information Retrieval System (AIRS). 65 FR 6092. We agree with SCAQMD that updated AIRS data now show that the basin had the second highest number of violations in 1999. Over the past three years (1997-1999), however, the South Coast Air Basin did have the largest number of ozone violations in the country.

A representative of the National Paint and Coatings Association commented regarding the purported technological and economic infeasibility of SCAQMD's coatings control measures, and issues regarding public notice and hearing requirements relative to SCAQMD's revisions to Rule 1113.

As noted by the commenter, we are barred from considering claims of economic or technological infeasibility in determining whether to approve a submitted SIP.

Union Electric Co. v. U.S. EPA, 429 U.S. 246, 255-66 (1976); 42 U.S.C. 7410(a)(2).

The comment regarding Rule 1113 is not germane to our proposed action on the revised ozone plan, which does not address any approval issues associated with revisions to Rule 1113. When we take action on the SIP revision to Rule 1113, we will determine whether or not SCAQMD met public notice and public hearing requirements when the rule was revised. If the commentor continues to believe that these requirements were not met, he must resubmit comments during the public comment period for our rulemaking on the revisions to SCAQMD Rule 1113.

A private citizen argued that the emissions inventory does not meet the CAA section 172(c)(3) requirements and should not be approved. The commenter stated that the control factors associated with California's enhanced motor vehicle inspection and maintenance (I/M) program are known to be bogus. The commenter referenced a CARB letter dated January 7, 2000, stating: “There have been a number of legislative and operational changes to the I/M program that have reduced its effectiveness and associated air quality benefits.”

We addressed this issue in our proposed approval of the plan, noting that the revised ozone plan represents more current and accurate information than was used in the 1994 ozone SIP and complies with acceptable methodologies for inventory preparation, but that the responsible agencies are in the process of updating and refining emissions reductions, including those associated with the I/M program. 65 FR 6094, 6100.

When improved information is available to refine the estimate of emissions reductions associated with the I/M program, CARB and SCAQMD will use this information in a comprehensive ozone plan revision, scheduled for adoption and submittal as a SIP revision in 2001. As discussed in our proposed approval, this future revision will include a revised control strategy if needed to provide for expeditious attainment.

We reaffirm our finding that the emissions inventory portion of the revised ozone plan not only improves on the accuracy of the 1994 ozone SIP but also meets CAA requirements that the inventory be comprehensive, accurate, and current. Therefore, we are finalizing approval of the revised ozone plan with respect to the requirements of CAA sections 172(c)(3) and 182(a)(1).

III. EPA Final Action

In this document, we are finalizing the following actions on the revised ozone plan. For each action, we indicate the page on which the element is discussed in our proposal.

(1) Approval of the revised baseline and projected emissions inventories under CAA sections 172(c)(3) and 182(a)(1)—6094;

(2) Approval of the SCAQMD commitment to implement those measures that had been adopted in regulatory form between November 1994 and September 1999, by the dates specified to achieve the identified emission reductions, under CAA section 110(k)(3)—6095 (Table 1);

(3) Approval of the SCAQMD commitment to adopt and implement the short- and intermediate-term control measures in the revised ozone plan by the dates specified to achieve the identified emission reductions, under CAA section 110(k)(3)—6095 (Table 2);

(4) Approval of the SCAQMD commitment to adopt and implement control measures to achieve the identified emission reduction commitments ⁴ for 1999 to 2008, as specified in Table 2-6 of the 1999 amendment, under CAA section 110(k)(3)—6097 (Table 3);

⁴ This approval makes enforceable the SCAQMD commitment to achieve the overall emission reduction schedule and thus creates the possibility of SCAQMD control measure adjustments and substitutions under the approved SIP, so long as the overall emission reduction obligations are met as described in Chapter 2 of the 1999 amendment.

(5) Deletion of 1994 ozone SIP control measures identified in the 1999 Amendment—6097 (Table 4);

(6) Approval of the SCAQMD commitment to adopt and implement the long-term control measures in the revised ozone plan by the dates specified to achieve the identified emission reductions, under CAA section 110(k)(3) and 182(e)(5)—6098 (Table 5);

(7) Approval of the revised rate-of-progress plan for the milestone years 1999, 2002, 2005, 2008, and 2010, under CAA sections 182(c)(2)—6099 (Table 6);

(8) Approval of the revised attainment demonstration under CAA sections 182(c)(2) and (e)—6100;

(9) Approval of the revised motor vehicle emissions budgets for purposes of transportation conformity under CAA section 176(c)(2)(A). Approval of the revised ozone plan also establishes new emissions budgets for ROP milestone years for purposes of general conformity under CAA section 176(c)(1)—6100-1 (Table 8).

Upon the effective date of our approval of the revised ozone plan, this plan replaces and supersedes the 1994 ozone SIP for the South Coast Air Basin with the exception of the State control measures for mobile sources, consumer products, and pesticides, and EPA's commitment. The State measures remain unchanged from those approved as part of the 1994 ozone SIP until we, in separate action, approve revised measures.

As discussed in our proposed action, CARB and SCAQMD intend to adopt and submit a comprehensive revision to the ozone plan in 2001. 65 FR 6101. We intend to work with CARB and SCAQMD to ensure the timely completion of this new comprehensive revision to refine and enhance the technical foundations of the attainment demonstration and update the control measures, as necessary.

IV. Administrative Requirements

A. Executive Order 12866

The Office of Management and Budget (OMB) has exempted this regulatory action from Executive Order 12866, entitled “Regulatory Planning and Review.”

B. Executive Order 13045

Executive Order 13045, entitled Protection of Children from Environmental Health Risks and Safety Risks (62 FR 19885, April 23, 1997), applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This rule is not subject to Executive Order 13045 because it does not involve decisions intended to mitigate environmental health or safety risks.

C. Executive Order 13084

Under Executive Order 13084, Consultation and Coordination with Indian Tribal Governments, EPA may not issue a regulation that is not required by statute, that significantly affects or uniquely affects the communities of Indian tribal governments, and that imposes substantial direct compliance costs on those communities, unless the Federal government provides the funds necessary to pay the direct compliance costs incurred by the tribal governments. If the mandate is unfunded, EPA must provide to the Office of Management and Budget, in a separately identified section of the preamble to the rule, a description of the extent of EPA's prior consultation with representatives of affected tribal governments, a summary of the nature of their concerns, and a statement supporting the need to issue the regulation.

In addition, Executive Order 13084 requires EPA to develop an effective process permitting elected and other representatives of Indian tribal governments “to provide meaningful and timely input in the development of regulatory policies on matters that significantly or uniquely affect their communities.” Today's rule does not significantly or uniquely affect the communities of Indian tribal governments. Accordingly, the requirements of section 3(b) of Executive Order 13084 do not apply to this rule.

D. Executive Order 13132

Executive Order 13121, entitled Federalism (64 FR 43255, August 10, 1999) revokes and replaces Executive Orders 12612, Federalism and 12875, Enhancing the Intergovernmental Partnership. Executive Order 13132 requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” Under Executive Order 13132, EPA may not issue a regulation that has federalism implications, that imposes substantial direct compliance costs, and that is not required by statute, unless the Federal government provides the funds necessary to pay the direct compliance costs incurred by State and local governments, or EPA consults with State and local officials early in the process of developing the proposed regulation. EPA also may not issue a regulation that has federalism implications and that preempts State law unless the Agency consults with State and local officials early in the process of developing the proposed regulation.

This rule will not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. Thus, the requirements of section 6 of the Executive Order do not apply to this rule.

E. Regulatory Flexibility Act

The Regulatory Flexibility Act (RFA) generally requires an agency to conduct a regulatory flexibility analysis of any rule subject to notice and comment rulemaking requirements unless the agency certifies that the rule will not have a significant economic impact on a substantial number of small entities. Small entities include small businesses, small not-for-profit enterprises, and small governmental jurisdictions.

This final rule will not have a significant impact on a substantial number of small entities because SIP approvals under section 110 and subchapter I, part D of the Clean Air Act do not create any new requirements but simply approve requirements that the State is already imposing. Therefore, because the Federal SIP approval does not create any new requirements, I certify that this action will not have a significant economic impact on a substantial number of small entities.

Moreover, due to the nature of the Federal-State relationship under the Clean Air Act, preparation of flexibility analysis would constitute Federal inquiry into the economic reasonableness of state action. The Clean Air Act forbids EPA to base its actions concerning SIPs on such grounds. Union Electric Co., v. U.S. EPA, 427 U.S. 246, 255-66 (1976); 42 U.S.C. 7410(a)(2).

F. Unfunded Mandates

Under section 202 of the Unfunded Mandates Reform Act of 1995 (“Unfunded Mandates Act”), signed into law on March 22, 1995, EPA must prepare a budgetary impact statement to accompany any proposed or final rule that includes a Federal mandate that may result in estimated annual costs to State, local, or tribal governments in the aggregate; or to private sector, of $100 million or more. Under section 205, EPA must select the most cost-effective and least burdensome alternative that achieves the objectives of the rule and is consistent with statutory requirements. Section 203 requires EPA to establish a plan for informing and advising any small governments that may be significantly or uniquely impacted by the rule.

EPA has determined that the approval action promulgated does not include a Federal mandate that may result in estimated annual costs of $100 million or more to either State, local, or tribal governments in the aggregate, or to the private sector. This Federal action approves pre-existing requirements under State or local law, and imposes no new requirements. Accordingly, no additional costs to State, local, or tribal governments, or to the private sector, result from this action.

G. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This rule is not a “major” rule as defined by 5 U.S.C. 804(2).

H. National Technology Transfer and Advancement Act

Section 12 of the National Technology Transfer and Advancement Act (NTTAA) of 1995 requires Federal agencies to evaluate existing technical standards when developing a new regulation. To comply with NTTAA, EPA must consider and use “voluntary consensus standards” (VCS) if available and applicable when developing programs and policies unless doing so would be inconsistent with applicable law or otherwise impractical.

The EPA believes that VCS are inapplicable to this action. Today's action does not require the public to perform activities conducive to the use of VCS.

I. Petitions for Judicial Review

Under section 307(b)(1) of the Clean Air Act, petitions for judicial review of this action must be filed in the United States Court of Appeals for the appropriate circuit by June 9, 2000. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Hydrocarbons, Incorporation by reference, Intergovernmental regulations, Nitrogen oxides, Ozone, Reporting and recordkeeping requirements, Volatile organic compounds.

Dated: March 20, 2000.
David P. Howekamp,
Acting Regional Administrator, Region IX.

Part 52, chapter I, title 40 of the Code of Federal Regulations is amended as follows:

PART 52—[AMENDED]

1. The authority citation for part 52 continues to read as follows:

Authority: 42 U.S.C. 7401 et seq.

Subpart F—California

2. Section 52.220 is amended by adding paragraphs (c)(247)(i)(A)(3) and (c)(272) to read as follows:

§ 52.220 Identification of plan.

* * * * *

(c) * * *

(247) * * *

(i) * * *

(A) * * *

(3) Baseline and projected emissions inventories and ozone attainment demonstration, as contained in the South Coast 1997 Air Quality Management Plan for ozone.

* * * * *

(272) New and amended plan for the following agency was submitted on February 4, 2000, by the Governor's designee.

(i) Incorporation by reference.

(A) South Coast Air Quality Management District.

(1) SCAQMD commitment to adopt and implement short- and intermediate-term control measures; SCAQMD commitment to adopt and implement long-term control measures; SCAQMD commitment to achieve overall emissions reductions for the years 1999-2008; SCAQMD commitment to implement those measures that had been adopted in regulatory form between November 1994 and September 1999; rate-of-progress plan for the 1999, 2002, 2005, 2008, and 2010 milestone years; amendment to the attainment demonstration in the 1997 Air Quality Management Plan for ozone; and motor vehicle emissions budgets for purposes of transportation conformity, as contained in the 1999 Amendment to the South Coast 1997 Air Quality Management Plan.

* * * * *

[FR Doc. 00-8534 Filed 4-7-00; 8:45 am]

BILLING CODE 6560-50-P